DEPARTMENT OF ENERGY

Federal Energy Regulatory Commission

[Project No. 6398-026]

Hackett Mills Hydro Associates, LLC; Notice of Application Accepted for Filing and Soliciting Motions To Intervene and Protests

Take notice that the following hydroelectric application has been filed with the Commission and is available for public inspection.

a. Type of Application: Subsequent Minor License.

b. Project No.: 6398-026.

c. Date filed: August 31, 2022.

d. Applicant: Hackett Mills Hydro Associates, LLC (Hackett Mills Hydro).

e. Name of Project: Hackett Mills Hydroelectric Project.

f. Location: On the Little Androscoggin River, in the towns of Poland and Minot, in Androscoggin County, Maine. The project does not occupy any Federal land.

g. Filed Pursuant to: Federal Power Act, 16 U.S.C. 791 (a)-825(r).

h. Applicant Contact: Matthew Nini, Hackett Mills Hydro Associates, LLC c/o Eagle Creek Renewable Energy, LLC, 7315 Wisconsin Avenue, Suite 1100W, Bethesda, Maryland 20814; phone: (973) 998-8171; email: matthew.nini@eaglecreekre.com.

i. FERC Contact: John Matkowski at (202) 502-8576 or john.matkowski@ferc.gov.

j. Deadline for filing motions to intervene and protests: 60 days from the issuance date of this notice.

The Commission strongly encourages electronic filing. Please file motions to intervene and protests using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Hackett Mills Hydroelectric Project (P-6398-026).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted but is not ready for environmental analysis.

l. The existing Hackett Mills Project consists of: (1) a 186-foot-long dam that consists of two spillway sections: a 101-foot-long, 8-foot-high rock filled timber crib dam with an uncontrolled spillway (main spillway section) and a 85-foot-long, 8-foot-high concrete gravity dam with three uncontrolled bays (secondary spillway section); (2) an obsolete sluice gatehouse that connects the main spillway and the secondary spillway sections; (3) a 3.5-mile-long, 60-acre impoundment with no useable storage capacity at a normal maximum water surface elevation of 235.05 feet; ¹ (4) a 17.5-foot-long, 40-foot-high and 22-foot-wide intake structure containing five gates; (5) a 100-foot-long, 25-foot-wide, 10-foot-deep power canal; (6) a 20-feet-long, 43.5-foot-high and 22-feet-wide concrete powerhouse located at the end of the canal containing one 485-kilowatt right angle drive bulb turbine-generator unit, with a minimum hydraulic capacity of 113 cubic-feet-per-second (cfs) and a maximum hydraulic capacity of 474 cfs; (7) a downstream fish passage facility; (8) a 200-foot-long, 12.5-kilovolt transmission line; and (9) appurtenant facilities.

¹ All elevations are reported in National Geodetic Vertical Datum of 1929 (NGVD 29).

The Hackett Mills Project is currently operated in a run-of-river mode and generates 1,602 megawatt-hours annually. Hackett Mills Hydro proposes to continue operating the project as a run-of-river facility and does not propose any new construction to the project.

m. In addition to publishing the full text of this document in the Federal Register, the Commission provides all interested persons an opportunity to view and/or print the contents of this document via the internet through the Commission's Home Page (https://www.ferc.gov) using the “eLibrary” link. Enter the docket number, excluding the last three digits in the sub-docket number field to access the document. For assistance, contact FERC at FERCOnlineSupport@ferc.gov or call toll-free, (886) 208-3676 or TTY, (202) 502-8659.

You may also register online at https://www.ferc.gov/docs-filing/esubscription.asp to be notified via email of new filings and issuances related to this or other pending projects. For assistance, contact FERC Online Support.

n. The Commission's Office of Public Participation (OPP) supports meaningful public engagement and participation in Commission proceedings. OPP can help members of the public, including landowners, Tribal members, and others, access publicly available information and navigate Commission processes. For public inquiries and assistance with making filings such as interventions, comments, or requests for rehearing, the public is encouraged to contact OPP at (202) 502-6595, or OPP@ferc.gov.

o. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

p. Procedural schedule: The application will be processed according to the following schedule. Revisions to the schedule will be made as appropriate.

Issue Scoping Document 1 for comments—April 2025

Comments on Scoping Document 1 Due—May 2025

Issue Scoping Document 2 (if necessary)—July 2025

Issue Notice of Ready for Environmental Analysis—August 2025

Dated: March 14, 2025.
Debbie-Anne A. Reese,
Secretary.

[FR Doc. 2025-04742 Filed 3-19-25; 8:45 am]

BILLING CODE 6717-01-P